DEPARTMENT OF TRANSPORTATION

Coast Guard

33 CFR Part 165

[CGD01-00-015]

RIN 2115-AA97

Safety Zone: Staten Island Fireworks, Arthur Kill

AGENCY: Coast Guard, DOT.

ACTION: Notice of proposed rulemaking.

SUMMARY: The Coast Guard proposes to establish two temporary safety zones on the Arthur Kill for two Borough of Staten Island Fireworks displays. This action is necessary to provide for the safety of life on navigable waters during the event. This action is intended to restrict vessel traffic on a portion of the Arthur Kill.

DATES: Comments and related material must reach the Coast Guard on or before June 23, 2000.

ADDRESSES: You may mail comments and related material to Waterways Oversight Branch (CGD01-00-015), Coast Guard Activities New York, 212 Coast Guard Drive, room 205, Staten Island, New York 10305. The Waterways Oversight Branch of Coast Guard Activities New York maintains the public docket for this rulemaking. Comments and material received from the public, as well as documents indicated in this preamble as being available in the docket, will become part of this docket and will be available for inspection or copying at room 205, Coast Guard Activities New York, between 8 a.m. and 3 p.m., Monday through Friday, except federal holidays.

FOR FURTHER INFORMATION CONTACT: Lieutenant J. Lopez, Waterways Oversight Branch, Coast Guard Activities New York (718) 354-4193.

SUPPLEMENTARY INFORMATION:

Request for Comments

We encourage you to participate in this rulemaking by submitting comments and related material. If you do so, please include your name and address, identify the docket number for this rulemaking (CGD01-00-015), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Oversight Branch at the address under ADDRESSES explaining why one would be beneficial. If we determine that one would aid this rulemaking, we will hold one at a time and place announced by a later notice in the Federal Register.

Background and Purpose

The Borough of Staten Island has submitted an Application for Approval of a Marine Event for a fireworks display on the Arthur Kill. This proposed regulation establishes a temporary safety zone in all waters of the Arthur Kill, Ward Point Bend (West), and the Raritan River Cutoff, within a 300-yard radius of the fireworks barge in approximate position 40°30′18″ N 074°15′30″ W (NAD 1983), about 250 yards northwest of Raritan Bay Channel Buoy 60 (LLNR 36319). The proposed safety zone would be effective from 8:15 p.m. (e.s.t.) until 9:45 p.m. (e.s.t.) on July 2, and September 2, 2000. If either event is cancelled due to inclement weather, then this proposed safety zone would be effective from 8:15 p.m. (e.s.t.) until 9:45 p.m. (e.s.t.) on July 3, and September 3, 2000. The proposed safety zone prevents vessels from transiting a portion of the Arthur Kill, Ward Point Bend (West), and the Raritan River Cutoff for approximately 45 minutes of the 90 minute long event, and is needed to protect boaters from the hazards associated with fireworks launched from a barge in the area. Public notifications will be made prior to the events via local notice to mariners, and marine information broadcasts.

Discussion of Proposed Rule

The proposed safety zone is for the Borough of Staten Island Fireworks displays held on the Arthur Kill. This event will be held on Sunday, July 2, and Saturday, September 2, 2000, from 8:15 p.m. (e.s.t.) until 9:45 p.m. (e.s.t.). If either event is canceled due to inclement weather, then the event will be held on Monday, July 3, and Sunday, September 3, 2000, from 8:15 p.m. (e.s.t.) until 9:45 p.m. (e.s.t.). This rule is being proposed to provide for the safety of life on navigable waters during the events and to give the marine community the opportunity to comment on this event.

The proposed size of this safety zone was determined using National Fire Protection Association and New York City Fire Department Standards for 10 inch mortars fired from a barge, combined with the Coast Guard's knowledge of tide and current conditions in the area.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10e of the regulatory policies and procedures of DOT is unnecessary.

Although this regulation prevents traffic from transiting a portion of the Arthur Kill during the event, the effect of this regulation will not be significant for several reasons: commercial facilities in the Arthur Kill and the Sandy Hook Pilots Association will be notified of this proposal, recreational vessels will be able to transit through the western 50 yards of the Arthur Kill during the event, recreational vessels would not be precluded from getting underway, or mooring at, any piers or marinas currently located in the vicinity of the safety zone, and advance notifications which will be made to the local maritime community by the Local Notice to Mariners, and marine information broadcasts. Additionally, commercial vessels will normally be precluded from entering the zone for only a 45-minute period during the effective period of the safety zone.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit a portion of the Arthur Kill, Ward Point Bend (West), and the Raritan River Cutoff during the time this zone is activated.

This safety zone would not have a significant economic impact on a substantial number of small entities for the following reasons: commercial facilities in the Arthur Kill and the Sandy Hook Pilots Association will be notified of this proposal, recreational vessels will be able to transit through the western 50 yards of the Arthur Kill during these times. Recreational vessels would not be precluded from getting underway, or mooring at, any piers or marinas currently located in the vicinity of the proposed safety zone. Additionally, commercial vessels will normally be precluded from entering the zone for only a 45-minute period during the effective period of the safety zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant J. Lopez, Waterways Oversight Branch, Coast Guard Activities New York (718) 354-4193.

Collection of Information

This proposed rule would call for no new collection of information under the Paperwork Reduction Act of 1995 (44 U.S.C. 3501-3520).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph 34(g), of Commandant Instruction M16475.1C, this proposed rule is categorically excluded from further environmental documentation. This proposed rule fits paragraph 34(g) as it establishes a safety zone. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, 160.5; 49 CFR 1.46.

2. Add temporary § 165.T01-015 to read as follows:

§ 165.T01-015 Safety zone: Staten Island fireworks, Arthur Kill.

(a) Location. The following area is a safety zone: All waters of the Arthur Kill within a 300-yard radius of the fireworks barge in approximate position 40°3018 N 074°1500 W (NAD 1983), about 250 yards northwest of Raritan Bay Channel Buoy 60 (LLNR 36319).

(b) Effective Period. This section is effective from 8:15 p.m. (e.s.t.) until 9:45 p.m. (e.s.t.) on July 2, and from 8:15 p.m. (e.s.t.) until 9:45 p.m. (e.s.t.) on September 2, 2000. If either event is cancelled due to inclement weather, then this section is effective from 8:15 p.m. (e.s.t.) until 9:45 p.m. (e.s.t.) on July 3, and 8:15 p.m. (e.s.t.) until 9:45 p.m. (e.s.t.) on September 3, 2000.

(c) Regulations. (1) The general regulations contained in 33 CFR 165.23 apply.

(2) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

Dated: April 7, 2000.
R.E. Bennis
Captain, U.S. Coast Guard, Captain of the Port, New York.

[FR Doc. 00-10153 Filed 4-21-00; 8:45 am]

BILLING CODE 4910-15-U